DEPARTMENT OF DEFENSE

Office of the Secretary

32 CFR Part 172

[Docket ID: DOD-2018-OS-0044]

RIN 0790-AK30

Disposition of Proceeds From DoD Sales of Surplus Personal Property

AGENCY: Office of the Under Secretary of Defense (Comptroller), DoD.

ACTION: Final rule.

SUMMARY: This final rule removes DoD's regulation that provides instructions to DoD Components on the collection and disposition of cash and cash equivalents received for the sale of DoD surplus personal property. Proceeds from the sale of surplus personal property shall be deposited by the collecting DoD Component promptly to a U.S. Treasury account. Process instructions are conveyed directly to potential buyers and bidders when invitation for bids are distributed or published. Therefore, this rule is unnecessary and can be removed from the CFR.

DATES: This rule is effective on April 7, 2020.

FOR FURTHER INFORMATION CONTACT: Kellie Allison at 703-614-0410.

SUPPLEMENTARY INFORMATION: It has been determined that publication of this CFR part removal for public comment is impracticable, unnecessary, and contrary to public interest since it is based on removing DoD guidance that is not required to be codified and is publicly available on the Department's website. DoD guidance will continue to be published in DoD 7000.14-R, Financial Management Regulation, Volume 11A, Chapter 5, “Disposition of Proceeds from DoD Sales of Surplus Personal Property” available at http://comptroller.defense.gov/Portals/45/documents/fmr/current/11a/11a_05.pdf.

This rule is not significant under Executive Order (E.O.) 12866, “Regulatory Planning and Review.” Therefore, E.O. 13771, “Reducing Regulation and Controlling Regulatory Costs,” does not apply.

List of Subjects in 32 CFR Part 172

Personal property, Recyclable material, Surplus Government property.

PART 172—[REMOVED]

Accordingly, by the authority of 5 U.S.C. 301, 32 CFR part 172 is removed.

Dated: March 27, 2020.
Aaron T. Siegel,
Federal Register Liaison Officer, Department of Defense.

[FR Doc. 2020-06773 Filed 4-6-20; 8:45 am]

BILLING CODE 5001-06-P